OFFICE OF PERSONNEL MANAGEMENT

Excepted Service

AGENCY: Office of Personnel Management (OPM).

ACTION: Notice.

SUMMARY: This notice identifies Schedule A, B, and C appointing authorities applicable to a single agency that were established or revoked from September 1, 2019 to September 30, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

16. Department of Health and Human Services (Sch. A, 213.3116)

(f)(1) Reserved.

Schedule B

No Schedule B Authorities to report during September 2019.

Schedule C

The following Schedule C appointing authorities were approved during September 2019.

Agency name | Organization name | Position title | Authorization number | Effective date
DEPARTMENT OF AGRICULTURE | Office of the Secretary | Advance Lead | DA190187 | 09/04/2019
|  | Special Assistant | DA190200 | 09/12/2019
|  | Deputy Director of Scheduling | DA190208 | 09/16/2019
| Office of the Assistant Secretary for Administration | Senior Advisor | DA190203 | 09/13/2019
| Office of the Assistant Secretary for Congressional Relations | Chief of Staff | DA190207 | 09/17/2019
| Rural Housing Service | State Director—Hawaii | DA190214 | 09/25/2019
| Rural Utilities Service | Confidential Assistant | DA190201 | 09/12/2019
DEPARTMENT OF COMMERCE | Office of International Trade Administration | Chief of Staff | DC190125 | 09/05/2019
| Office of the Advocacy Center | Policy Advisor | DC190137 | 09/05/2019
| Office of Under Secretary | Senior Advisor | DC190138 | 09/05/2019
DEPARTMENT OF DEFENSE | Office of the Assistant Secretary of Defense (Legislative Affairs) | Special Assistant | DD190188 | 09/09/2019
| Office of the Secretary | Protocol Officer | DD190179 | 09/06/2019
|  | Defense Fellow | DD190207 | 09/27/2019
| Office of the Under Secretary of Defense (Acquisition and Sustainment) | Special Assistant | DD190196 | 09/18/2019
| Office of the Under Secretary of Defense (Comptroller) | Special Assistant | DD190183 | 09/09/2019
| Office of the Under Secretary of Defense (Policy) | Special Assistant (3) | DD190155 DD190195 | 09/03/2019 09/13/2019
|  |  | DD190198 | 09/20/2019
DEPARTMENT OF THE ARMY | Office of the Assistant Secretary of the Army (Civil Works) | Special Assistant (Civil Works) | DW190051 | 09/03/2019
| Office of the Assistant Secretary of the Army (Manpower and Reserve Affairs) | Special Assistant (Manpower and Reserve Affairs) | DW190050 | 09/19/2019
DEPARTMENT OF EDUCATION | Office for Civil Rights | Attorney Advisor (Senior Counsel) | DB190124 | 09/03/2019
| Office of Communications and Outreach | Confidential Assistant | DB190126 | 09/05/2019
DEPARTMENT OF ENERGY | Office of the Assistant Secretary for Electricity Delivery and Energy Reliability | Special Advisor | DE190199 | 09/17/2019
| Office of the Assistant Secretary for Environmental Management | Chief of Staff | DE190200 | 09/24/2019
| Office of General Counsel | Senior Advisor | DE190201 | 09/23/2019
| Office of Public Affairs | Content Creator | DE190172 | 09/09/2019
|  | Deputy Press Secretary | DE190191 | 09/18/2019
| Office of Science | Senior Advisor | DE190192 | 09/26/2019
| Office of the Secretary | Special Assistant | DE190202 | 09/23/2019
ENVIRONMENTAL PROTECTION AGENCY | Office of the Assistant Administrator for Air and Radiation | Policy and Communications Advisor for the Office of Air and Radiation | EP190133 | 09/03/2019
| Region VIII—Denver, Colorado | Chief of Staff for Region VIII | EP190129 | 09/09/2019
EQUAL EMPLOYMENT OPPORTUNITY COMMISSION | Office of the General Counsel | Executive Staff Assistant | EE190006 | 09/12/2019
EXPORT-IMPORT BANK | Office of External Engagement | Deputy for External Engagement | EB190017 | 09/04/2019
|  | Principal Deputy | EB190018 | 09/12/2019
GENERAL SERVICES ADMINISTRATION | Office of Strategic Communication | Senior Communications Advisor | GS190039 | 09/13/2019
DEPARTMENT OF HEALTH AND HUMAN SERVICES | Office of Intergovernmental and External Affairs | External Affairs Specialist (2) | DH190252 | 09/04/2019
|  |  | DH190240 | 09/09/2019
| Office of the Administration for Children and Families | Communications Advisor | DH190245 | 09/09/2019
| Office of Refugee Resettlement/Office of the Director | Policy Advisor | DH190256 | 09/17/2019
DEPARTMENT OF HOMELAND SECURITY | Federal Emergency Management Agency | Advisor | DM190316 | 09/27/2019
| Office of Assistant Secretary for Legislative Affairs | Chief of Staff in the Office of Legislative Affairs | DM190293 | 09/06/2019
| Office of the Chief of Staff | Deputy Director of Advance | DM190308 | 09/19/2019
| Office of the United States Citizenship and Immigration Services | Advisor | DM190302 | 09/20/2019
| Office of the United States Customs and Border Protection | Executive Director for Policy and Planning | DM190303 | 09/19/2019
|  | Executive Director for Policy and Planning | DM190310 | 09/24/2019
DEPARTMENT OF HOUSING AND URBAN DEVELOPMENT | Office of Community Planning and Development | Special Assistant | DU190114 | 09/04/2019
| Office of Public Affairs | Assistant Press Secretary | DU190122 | 09/06/2019
DEPARTMENT OF THE INTERIOR | Secretary's Immediate Office | Deputy Director, Office of Intergovernmental and External Affairs | DI190092 | 09/13/2019
| Bureau of Reclamation | Advisor | DI190093 | 09/13/2019
DEPARTMENT OF JUSTICE | Office of the Environment and Natural Resources Division | Senior Counsel | DJ190176 | 09/12/2019
|  | Counsel | DJ190182 | 09/20/2019
| Office of Justice Programs | Staff Assistant | DJ190230 | 09/12/2019
|  | Senior Advisor | DJ190203 | 09/23/2019
| Office of the Attorney General | Special Assistant | DJ190237 | 09/24/2019
| Office of the Deputy Attorney General | Senior Counsel | DJ190219 | 09/09/2019
DEPARTMENT OF LABOR | Office of Employee Benefits Security Administration | Policy Advisor Chief of Staff | DL190148 DL190183 | 09/13/2019 09/26/2019
| Office of Employment and Training Administration | Policy Advisor | DL190176 | 09/18/2019
| Office of Occupational Safety and Health Administration | Special Assistant | DL190179 | 09/24/2019
| Office of Congressional and Intergovernmental Affairs | Regional Representative | DL190178 | 09/24/2019
| Office of Public Affairs | Special Assistant | DL190168 | 09/12/2019
| Office of the Deputy Secretary | Counselor | DL190177 | 09/18/2019
| Office of the Secretary | Deputy Director, Office of Faith-Based and Community Initiatives | DL190167 | 09/12/2019
|  | Executive Assistant | DL190191 | 09/27/2019
| Office of the Solicitor | Senior Counsel | DL190172 | 09/04/2019
NATIONAL ENDOWMENT FOR THE ARTS | National Endowment for the Arts | Special Assistant for Events and Development | NA190013 | 09/13/2019
NATIONAL LABOR RELATIONS BOARD | Office of the Board Members | Congressional Liaison Specialist | NL190014 | 09/25/2019
OFFICE OF MANAGEMENT AND BUDGET | Office of the General Counsel | Confidential Assistant | BO190048 | 09/18/2019
OFFICE OF PERSONNEL MANAGEMENT | Office of the Congressional, Legislative, and Intergovernmental Affairs | Congressional Relations Officer | PM190054 | 09/24/2019
DEPARTMENT OF STATE | Bureau of Global Public Affairs | Deputy Spokesperson | DS190141 | 09/10/2019
| Bureau of Political and Military Affairs | Deputy Assistant Secretary | DS190145 | 09/20/2019
|  | Senior Advisor | DS190146 | 09/20/2019
| Office of the Director of United States Foreign Assistance | Special Advisor | DS190144 | 09/24/2019
| Office of the Under Secretary for Civilian Security, Democracy, and Human Rights | Special Assistant | DS190142 | 09/10/2019
| Office of the Under Secretary for Economic Growth, Energy, and the Environment | Deputy Chief Economist Senior Economist | DS190140 DS190143 | 09/04/2019 09/20/2019
| Office of the Under Secretary for Management | Deputy White House Liaison | DS190151 | 09/25/2019
DEPARTMENT OF TRANSPORTATION | Office of the Secretary | Deputy Director for Scheduling and Advance Operations | DT190124 | 09/23/2019

The following Schedule C appointing authorities were revoked during September 2019.

Agency name | Organization name | Position title | Request number | Date vacated
DEPARTMENT OF COMMERCE | Advocacy Center | Policy Assistant | DC180009 | 09/14/2019
| Office of General Counsel | Special Advisor | DC190088 | 09/14/2019
| Office of Under Secretary | Special Advisor | DC180055 | 09/14/2019
OFFICE OF THE SECRETARY OF DEFENSE | Office of the Under Secretary of Defense (Personnel and Readiness) | Special Assistant to the Assistant Secretary of Defense for Health Affairs | DD170168 | 09/01/2019
| Office of the Under Secretary of Defense (Policy) | Special Assistant Special Assistant to the Director, Defeat ISIS Task Force | DD180124 DD180013 | 09/14/2019 09/16/2019
DEPARTMENT OF THE AIR FORCE | Office of Assistant Secretary of the Air Force for Manpower and Reserve Affairs | Special Assistant | DF180003 | 09/01/2019
DEPARTMENT OF EDUCATION | Office for Civil Rights | Attorney Advisor | DB190069 | 09/14/2019
| Office of Communications and Outreach | Confidential Assistant | DB170141 | 09/27/2019
| Office of Planning, Evaluation and Policy Development | Special Assistant | DB180060 | 09/14/2019
| Office of the General Counsel | Attorney Advisor (2) | DB190009 | 09/07/2019
|  |  | DB190001 | 09/14/2019
DEPARTMENT OF ENERGY | Office of the Assistant Secretary for Congressional and Intergovernmental Affairs | Senior Advisor for External Affairs | DE180158 | 09/30/2019
| Office of the Assistant Secretary for Electricity Delivery and Energy Reliability | Special Assistant | DE190179 | 09/29/2019
| Office of the Assistant Secretary for International Affairs | Senior Advisor Chief of Staff | DE190146 DE190019 | 09/01/2019 09/14/2019
| Office of Cybersecurity, Energy Security and Emergency Response | Special Assistant | DE190112 | 09/28/2019
| Office of Public Affairs | Deputy Creative Director | DE190069 | 09/14/2019
| Office of the Deputy Secretary | Policy Advisor to the Deputy Secretary (2) | DE180153 DE180152 | 09/06/2019 09/06/2019
| Office of the Secretary of Energy Advisory Board | Director, Office of Secretarial Boards and Councils | DE180006 | 09/20/2019
| Office of the Under Secretary of Energy | Scheduler to the Under Secretary | DE180032 | 09/01/2019
|  | Special Assistant to the Under Secretary of Energy | DE180103 | 09/01/2019
DEPARTMENT OF HEALTH AND HUMAN SERVICES | Office of Intergovernmental and External Affairs | Special Assistant | DH190187 | 09/14/2019
| Office of the Assistant Secretary for Financial Resources | Policy Advisor | DH190073 | 09/27/2019
| Office of the Assistant Secretary for Public Affairs | Deputy Press Secretary | DH190226 | 09/27/2019
| Office of the Secretary | Special Assistant | DH190170 | 09/30/2019
DEPARTMENT OF HOMELAND SECURITY | Office of the Chief of Staff | Special Assistant | DM190209 | 09/07/2019
DEPARTMENT OF HOUSING AND URBAN DEVELOPMENT | Office of the Administration | Senior Advisor | DU190075 | 09/30/2019
DEPARTMENT OF JUSTICE | Office of the Attorney General | Director of Scheduling | DJ170024 | 09/28/2019
DEPARTMENT OF LABOR | Bureau of the International Labor Affairs | Special Assistant | DL170122 | 09/14/2019
DEPARTMENT OF THE INTERIOR | Bureau of Reclamation | Special Assistant | DI180007 | 09/14/2019
DEPARTMENT OF TRANSPORTATION | Office of the Secretary | Deputy Director for Scheduling and Advance | DT180074 | 09/28/2019
DEPARTMENT OF VETERANS AFFAIRS | Office of the Secretary and Deputy | Special Assistant | DV190014 | 09/05/2019
ENVIRONMENTAL PROTECTION AGENCY | Office of the Assistant Administrator for Water | Attorney-Advisor (General) | EP190015 | 09/14/2019
| Office of the Administrator | Director of Advance | EP180081 | 09/28/2019
OFFICE OF PERSONNEL MANAGEMENT | Office of the Director | Special Assistant Confidential Assistant | PM190005 PM180052 | 09/14/2019 09/28/2019
| Office of the General Counsel | Assistant General Counsel | PM180047 | 09/14/2019

Authority: 5 U.S.C. 3301 and 3302; E.O. 10577, 3 CFR, 1954-1958 Comp., p. 218.

Office of Personnel Management.
Alexys Stanley,
Regulatory Affairs Analyst.

[FR Doc. 2020-02033 Filed 2-3-20; 8:45 am]

BILLING CODE 6325-39-P